DEPARTMENT OF ENERGY

Ultra-Deepwater and Unconventional Natural Gas and Other Petroleum Resources Research and Development Program 2013 Annual Plan

AGENCY: Office of Fossil Energy, Department of Energy.

ACTION: Notice of report availability.

SUMMARY: The Office of Fossil Energy announces the availability of the 2013 Annual Plan for the Ultra-Deepwater and Unconventional Natural Gas and Other Petroleum Resources Research and Development Program on the DOE Web site at http://energy.gov/fe/downloads/2013-annual-plan or in print form (see “Contact” below). The 2013 Annual Plan is in compliance with the Energy Policy Act of 2005, Subtitle J, Section 999B(e)(3) which requires the publication of this plan and all written comments in the Federal Register.

FOR FURTHER INFORMATION CONTACT: Elena Melchert, U.S. Department of Energy, Office of Oil and Natural Gas, Mail Stop FE-30, 1000 Independence Avenue SW., Washington, DC 20585 or phone: (202) 586-5600 or email to UltraDeepwater@hq.doe.gov.

SUPPLEMENTARY INFORMATION:

Executive Summary [Excerpted from the 2013 Annual Plan]

This 2013 Annual Plan is the seventh research plan for the Ultra-Deepwater and Unconventional Natural Gas and Other Petroleum Resources Research Program since the launch of the program in 2007.

This plan reflects the program's focus on safety and environmental sustainability that was initiated in the 2011 plan, and is consistent with the President's Office of Management and Budget directive for research that has significant potential public benefits.

Onshore, research on Unconventional Resources focuses on protecting groundwater and air quality, understanding rock and fluid interactions, and integrated environmental protection, including water treatment technologies and water management. For small producers, the program focuses on extending the life of mature fields in an environmentally sustainable way.

Offshore, research on Ultra-Deepwater emphasizes improved understanding of systems risk, reducing risk through the acquisition of real-time information, and reducing risk through the development of advanced technologies.

The research activities described in this plan will be administered by the Research Partnership to Secure Energy for America (RPSEA), which operates under the guidance of the Secretary of Energy. RPSEA is a consortium which includes representatives from industry, academia, and research institutions. The expertise of RPSEA's members in all areas of the exploration and production value chain ensures that the Department of Energy's research program leverages relevant emerging technologies and processes, and that project results will have a direct impact on practices in the field.

Issued in Washington, DC on June 27, 2013.
Guido DeHoratiis,
Acting Deputy Assistant Secretary, Office of Oil and Natural Gas, Office of Fossil Energy.

[FR Doc. 2013-16423 Filed 7-8-13; 8:45 am]

BILLING CODE 6450-01-P